GENERAL SERVICES ADMINISTRATION

48 CFR Part 570

[GSAR Case 2024-G503; Docket No. 2024-0014; Sequence No. 1]

RIN 3090-AK82

General Services Administration Acquisition Regulation; GSAR Case 2024-G503; Updates to References to GSA Sustainable Leasing

AGENCY: Office of Acquisition Policy, General Services Administration (GSA).

ACTION: Final rule.

SUMMARY: General Services Administration (GSA) is issuing this final rule amending the General Services Administration Acquisition Regulation (GSAR) to update sustainable leasing requirement language.

DATES: Effective September 3, 2024.

FOR FURTHER INFORMATION CONTACT: For clarification of content, contact Ms. Adina Torberntsson, GSA Acquisition Policy Division, GSA Acquisition Policy Division, at gsarpolicy@gsa.gov or 720-475-0568. For information pertaining to status or publication schedules, contact the Regulatory Secretariat at 202-501-4755 or GSARegsec@gsa.gov. Please cite GSAR Case 2024-G503.

SUPPLEMENTARY INFORMATION:

I. Background

The General Services Administration (GSA) conducts routine reviews of its acquisition regulations to identify outdated content and to ensure information referenced within the General Services Administration Acquisition Regulation (GSAR) is current.

GSA discovered that the GSAR guidance on sustainable leasing is outdated because it references Executive Order (E.O.) 13514, Federal Leadership in Environmental, Energy, and Economic Performance, which was revoked on March 19, 2015, with the publication of E.O. 13693, Planning for Federal Sustainability in the Next Decade.

E.O. 13963 was in turn revoked on May 17, 2018, with the publication of E.O. 13834, Efficient Federal Operations. E.O. 13834 was then revoked by E.O. 14057, Executive Order on Catalyzing Clean Energy Industries and Jobs Through Federal Sustainability, issued on December 13, 2021.

Regardless of specific E.O. requirements, GSA leasing has a long history adopting sustainable practices and intends to continue adopting sustainable practices. To maintain this intent, references to E.O.s will be removed and replaced with the word “sustainability.”

The previous language also included an expired website; a working website link has been included.

Small editorial changes have also been made to the text to increase readability.

II. Publication of This Final Rule for Public Comment Is Not Required By Statute

The statute that applies to the publication of the GSAR is the Office of Federal Procurement Policy statute (codified at title 41 of the United States Code). Specifically, 41 U.S.C. 1707(a)(1) requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This rule is not required to be published for public comment because GSA is not issuing a new regulation; rather, this rule removes expired E.O. references and making editorial updates for readability purposes.

III. Executive Order 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) supplements and reaffirms the principles, structures, and definitions governing contemporary regulatory review established in E.O. 12866 and E.O. 13563. The Office of Information and Regulatory Affairs (OIRA) in the Office of Management and Budget (OMB) has determined that this is not a significant regulatory action and, therefore, is not subject to review under section 6(b) of E.O. 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register. OIRA has determined this rule is not a “major rule” under 5 U.S.C. 804(2).

V. Regulatory Flexibility Act

The Regulatory Flexibility Act (5 U.S.C. 601 et seq.) does not apply to this rule, because an opportunity for public comment is not required to be given for this rule under 41 U.S.C. 1707(a)(1). Accordingly, no regulatory flexibility analysis is required, and none has been prepared.

VI. Paperwork Reduction Act

The Paperwork Reduction Act does not apply because the changes to the GSAR do not impose recordkeeping or information collection requirements, or the collection of information from offerors, contractors, or members of the public that require the approval of the Office of Management and Budget (OMB) under 44 U.S.C. 3501, et seq.

List of Subjects in 48 CFR Part 570

Government procurement.

Jeffrey A. Koses,
Senior Procurement Executive, Office of Acquisition Policy, Office of Government-wide Policy, General Services Administration.

Therefore, GSA amends 48 CFR part 570 as set forth below:

PART 570—ACQUIRING LEASEHOLD INTERESTS IN REAL PROPERTY

1. The authority citation for 48 CFR part 570 continues to read as follows:

Authority: 40 U.S.C. 121(c).

2. Revise section 570.117 to read as follows:

570.117 Sustainable requirements for lease acquisition.

Contracting officers must include sustainable design requirements appropriate for the type of leasing action in the solicitations. Contracting officers can find solicitation requirements and instructions at https://www.gsa.gov/real-estate/real-estate-services/leasing/leasing-policy under the ”Sustainability Policies” tab and within the applicable Leasing Desk Guide chapter to assist them in complying with GSA's sustainable requirements.

3. Revise section 570.117-1 to read as follows:

570.117-1 Federal leadership in environmental, energy, and economic performance.

In order to create a clean energy economy that will increase our Nation's prosperity, promote energy security, protect the interests of taxpayers, and safeguard the health of our environment, GSA will accomplish all sustainability requirements described in 570.117-2 that apply to lease acquisitions.

570.117-2 [Amended]

4. Amend section 570.117-2 in the introductory text by removing “comply” and adding “complies” in its place.

[FR Doc. 2024-16918 Filed 8-1-24; 8:45 am]

BILLING CODE 6820-61-P